DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Rio Grande County, Colorado, and Incorporated Areas
Docket No.: FEMA-B-1097
Willow Creek | At the confluence with the Rio Grande, approximately 400 feet north of U.S. Route 160 | + 8154 | Unincorporated Areas of Rio Grande County.
| Approximately 1.1 miles south of East Lake Court | + 8766
* National Geodetic Vertical Datum.
+ North American Vertical Datum.
# Depth in feet above ground.
‸ Mean Sea Level, rounded to the nearest 0.1 meter.
ADDRESSES
Unincorporated Areas of Rio Grande County
Maps are available for inspection at 925 6th Street, Del Norte, CO 81132.
Clay County, Indiana, and Incorporated Areas
Docket No.: FEMA-B-1115
Birch Creek-Pouges Run | Approximately 720 feet downstream of White Rock Road | + 624 | City of Brazil, Unincorporated Areas of Clay County.
| Approximately 1.29 miles upstream of White Rock Road | + 652
* National Geodetic Vertical Datum.
+ North American Vertical Datum.
# Depth in feet above ground.
‸ Mean Sea Level, rounded to the nearest 0.1 meter.
ADDRESSES
City of Brazil
Maps are available for inspection at City Hall, 203 East National Avenue, Brazil, IN 47834.
Unincorporated Areas of Clay County
Maps are available for inspection at the Clay County Emergency Management Agency, Clay County Justice Center, 611 East Jackson Street, Brazil, IN 47834.
Wyandotte County, Kansas, and Incorporated Areas
Docket No.: FEMA B-1098
Marshall Creek | At the confluence with Wyandotte County Lake | + 833 | City of Kansas City.
| Approximately 80 feet downstream of North 99th Street | + 928
Marshall Creek Tributary | At the confluence with Marshall Creek | + 842 | City of Kansas City.
| Approximately 2,000 feet upstream of Parallel Avenue | + 916
Missouri River | Approximately 3,500 feet downstream of Fairfax Bridge | + 756 | City of Kansas City.
| Just upstream of I-635 | + 758
| At the confluence with Connor Creek | + 764
Spring Creek | Approximately 700 feet upstream of 2nd Street | + 787 | City of Bonner Springs.
| Just upstream of Lakewood Drive | + 857
Wolf Creek | Approximately 1,500 feet downstream of Woodend Road | + 777 | City of Bonner Springs.
| Approximately 3,100 feet upstream of Kump Avenue | + 794
* National Geodetic Vertical Datum.
+ North American Vertical Datum.
# Depth in feet above ground.
‸ Mean Sea Level, rounded to the nearest 0.1 meter.
ADDRESSES
City of Bonner Springs
Maps are available for inspection at 205 East 2nd Street, Bonner Springs, KS 66012.
City of Kansas City
Maps are available for inspection at City Hall, 701 North 7th Street, Kansas City, KS 66101.
Franklin Parish, Louisiana, and Incorporated Areas
Docket No.: FEMA-B-1109
Ash Slough | Just upstream of Riser Road | + 69 | Unincorporated Areas of Franklin Parish.
| Approximately 700 feet downstream of Wyman Road | + 70
Batey Bayou | Just downstream of Kansas Street | + 65 | Town of Wisner, Unincorporated Areas of Franklin Parish.
| Approximately 800 feet upstream of State Highway 15 | + 72
Cypress Slough | Just upstream of Kansas Street | + 65 | Unincorporated Areas of Franklin Parish.
| Just downstream of Maple Street | + 73
Turkey Creek | Approximately 500 feet upstream of Highway 3201 | + 64 | Unincorporated Areas of Franklin Parish.
| Approximately 0.5 mile upstream of Alice Shaw Road | + 69
* National Geodetic Vertical Datum.
+ North American Vertical Datum.
# Depth in feet above ground.
‸ Mean Sea Level, rounded to the nearest 0.1 meter.
ADDRESSES
Town of Wisner
Maps are available for inspection at the Town Hall, 9530 Natchez Street, Wisner, LA 71378.
Unincorporated Areas of Franklin Parish
Maps are available for inspection at the Franklin Parish Police Jury, 6558 Main Street, Winnsboro, LA 71295.
Simpson County, Mississippi, and Incorporated Areas
Docket No.: FEMA-B-1098
Pearl River | Approximately 1.2 miles downstream of U.S. Route 28 | + 229 | Unincorporated Areas of Simpson County.
| Approximately 1.0 mile upstream of U.S. Route 28 | + 233
* National Geodetic Vertical Datum.
+ North American Vertical Datum.
# Depth in feet above ground.
‸ Mean Sea Level, rounded to the nearest 0.1 meter.
ADDRESSES
Unincorporated Areas of Simpson County
Maps are available for inspection at 100 Court Street, Room 2, Mendenhall, MS 39114.
Gallatin County, Montana, and Incorporated Areas
Docket No.: FEMA-B-1109
Bridger Creek | Approximately 1.0 mile downstream of Story Mill Road | + 4688 | City of Bozeman.
| Just downstream of Story Mill Road | + 4731
Buster Gulch | Approximately 0.9 mile upstream of Airport Road | + 4480 | Unincorporated Areas of Gallatin County.
| Approximately 4.2 miles upstream of Airport Road | + 4568
East Gallatin River | Just downstream of Airport Road | + 4463 | City of Bozeman, Unincorporated Areas of Gallatin County.
| Approximately 2.1 miles downstream of Story Hill Road | + 4791
East Gallatin River Golf Course Reach | Just upstream of the confluence with the East Gallatin River Springhill Reach | + 4604 | City of Bozeman.
| Approximately 0.5 mile upstream of the confluence with the East Gallatin River Springhill Reach | + 4617
East Gallatin River Overflow Reach | Approximately 1,300 feet downstream of Springhill Road | + 4596 | City of Bozeman, Unincorporated Areas of Gallatin County.
| Approximately 2.6 miles upstream of Springhill Road | + 4674
East Gallatin River Spillway Reach | Just upstream of the confluence with the East Gallatin River Overflow Reach | + 4591 | City of Bozeman.
| Approximately 0.5 mile upstream of the confluence with the East Gallatin River Overflow Reach | + 4603
East Gallatin River Springhill Reach | Just upstream of the confluence with the East Gallatin River | + 4594 | City of Bozeman.
| Just downstream of the confluence with the East Gallatin River Golf Course Reach | + 4604
Jefferson River | Approximately 0.6 mile downstream of Old Town Road | + 4061 | Unincorporated Areas of Gallatin County.
| Approximately 120 feet upstream of Frontage Road | + 4090
Madison River | Approximately 0.8 mile downstream of Frontage Road | + 4058 | Unincorporated Areas of Gallatin County.
| Approximately 1.2 miles upstream of I-90 | + 4083
* National Geodetic Vertical Datum.
+ North American Vertical Datum.
# Depth in feet above ground.
‸ Mean Sea Level, rounded to the nearest 0.1 meter.
ADDRESSES
City of Bozeman
Maps are available for inspection at 411 East Main Street, Bozeman, MT 59771.
Unincorporated Areas of Gallatin County
Maps are available for inspection at 311 West Main Street, Bozeman, MT 59771.
Wood County, Ohio, and Incorporated Areas
Docket No.: FEMA-B-1122
Crane Creek | Approximately 0.5 mile downstream of State Highway 51 | + 609 | Unincorporated Areas of Wood County.
| At State Highway 51 | + 609
Maumee River | At the Lucas County boundary | + 579 | City of Rossford, Village of Grand Rapids.
| At the Henry County boundary | + 649
North Branch Portage River | Approximately 1,000 feet downstream of State Highway 6 | + 668 | City of Bowling Green, Unincorporated Areas of Wood County.
| Approximately 1,650 feet upstream of State Highway 25 | + 678
Rock Ford Creek Tributary | Approximately 130 feet downstream of North Baltimore Road | + 725 | Village of North Baltimore.
| Approximately 400 feet upstream of North Baltimore Road | + 726
* National Geodetic Vertical Datum.
+ North American Vertical Datum.
# Depth in feet above ground.
‸ Mean Sea Level, rounded to the nearest 0.1 meter.
ADDRESSES
City of Bowling Green
Maps are available for inspection at City Hall, 304 North Church Street, Bowling Green, OH 43402.
City of Rossford
Maps are available for inspection at City Hall, 133 Osborn Street, Rossford, OH 43460.
Unincorporated Areas of Wood County
Maps are available for inspection at the Wood County Office Building, 1 Courthouse Square, Bowling Green, OH 43402.
Village of Grand Rapids
Maps are available for inspection at the Village Hall, 17460 Sycamore Road, Grand Rapids, OH 43522.
Village of North Baltimore
Maps are available for inspection at the Village Hall, 205 North Main Street, North Baltimore, OH 45872.
Grant County, Wisconsin, and Incorporated Areas
Docket No.: FEMA-B-1089
Mississippi River | Approximately 2.4 miles downstream of Lock and Dam No. 11 | + 610 | Unincorporated Areas of Grant County, Village of Potosi.
| Approximately 10.8 miles upstream of Lock and Dam No. 11 | + 613
| Approximately 7.4 miles upstream of Lock and Dam No. 10 | + 625 | Village of Bagley.
| Approximately 8.0 miles upstream of Lock and Dam No. 10 | + 625
* National Geodetic Vertical Datum.
+ North American Vertical Datum.
# Depth in feet above ground.
‸ Mean Sea Level, rounded to the nearest 0.1 meter.
ADDRESSES
Unincorporated Areas of Grant County
Maps are available for inspection at 111 South Jefferson Street, Lancaster, WI 53813.
Village of Bagley
Maps are available for inspection at 400 South Jackley Lane, Bagley, WI 53801.
Village of Potosi
Maps are available for inspection at 105 North Main Street, Potosi, WI 53820.

(Catalog of Federal Domestic Assistance No. 97.022, “Flood Insurance.”)

Dated: June 23, 2011.
Sandra K. Knight,
Deputy Federal Insurance and Mitigation Administrator, Mitigation, Department of Homeland Security, Federal Emergency Management Agency.

[FR Doc. 2011-16654 Filed 7-1-11; 8:45 am]

BILLING CODE 9110-12-P